DEPARTMENT OF AGRICULTURE

Rural Business—Cooperative Service

Information Collection Activity; Comment Request

AGENCY: Rural Business—Cooperative Service, USDA.

ACTION: Notice and request for comments.

SUMMARY: In accordance with the Paperwork Reduction Act of 1995, the Rural Business—Cooperative Service, an agency of the United States Department of Agriculture's (USDA), invites comments on this information collection for which the Agency intends to request approval from the Office of Management and Budget (OMB).

DATES: Comments on this notice must be received by December 31, 2018.

Development Innovation Center—Regulatory Team, USDA, 1400 Independence Ave. SW, STOP 1522, Room 5162 South Building, Washington, DC 20250-1522. Telephone: (202) 690-1078. Email: Michele.Brooks@wdc.usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that the Agency is submitting to OMB for revision.

Comments are invited on (a) whether the collection of information is necessary for the proper performance of the functions of the agency, including whether the information will have practical utility; (b) the accuracy of the agency's estimate of burden including the validity of the methodology and assumption used; (c) ways to enhance the quality, utility, and clarity of the information to be collected; and (d) ways to minimize the burden of the collection of information on those who are to respond, including through the use of appropriate automated, electronic, mechanical, or other technological collection techniques on other forms and information technology. Comments may be sent to Michele Brooks, Team Lead, Rural Development Innovation Center—Regulatory Team, USDA, 1400 Independence Ave. SW, STOP 1522, Room 5162 South Building, Washington, DC 20250-1522. Telephone: (202) 690-1078. Email: Michele.Brooks@wdc.usda.gov.

Title: 7 CFR Part 4280-E, Rural Business Development Grants.

OMB Control Number: 0570-0070.

Type of Request: Extension of currently approved package.

Abstract: The Agricultural Act of 2014, Public Law 113-79 (2014 Farm Bill) (7 U.S.C. 1932(c)), authorizes the Rural Business Development Grant (RBDG) program to facilitate the development of small and emerging private businesses, industries, and related employment as well as identifying and analyzing business opportunities, establishing business support centers, and providing training, technical assistance, and planning for improving the economy in rural communities.

Estimate of Burden: Public reporting burden for this collection of information is estimated to average 22.3 hours per responses.

Estimated Number of Respondents: 920.

Estimated Number of Total Annual Responses per Respondents: 20,517.

Estimated Total Annual Burden on Respondents: 64,773.

Copies of this information collection can be obtained from MaryPat Daskal, Rural Development Innovation Center—Regulatory Team, at (202) 720-7853. Email: MaryPat.Daskal@.usda.gov.

All responses to this information collection and recordkeeping notice will be summarized and included in the request for OMB approval. All comments will also become a matter of public record.

Dated: October 25, 2018.
Bette Brand,
Administrator, Rural Business—Cooperative Service.

[FR Doc. 2018-23835 Filed 10-30-18; 8:45 am]

BILLING CODE P